FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011325-027.

Title: Westbound Transpacific Stabilization Agreement.

Parties: American President Lines, Ltd. and APL Co. PTE Ltd. (operating as a single carrier) A.P. Moller-Maersk Sealand, China Ocean Shipping (Group) Co., Evergreen Marine Corporation, Hanjin Shipping Company, Ltd., Hapag-Lloyd Container Linie GmbH, Hyundai Merchant Marine Co., Ltd., Kawasaki Kisen Kaisha, Ltd., Mitsui O.S.K. Lines, Ltd., Nippon Yusen Kaisha, Orient Overseas Container Line Limited, P&O Nedlloyd B.V., P&O Nedlloyd Limited., Yangming Marine Transport Corp.

Synopsis: The proposed amendment authorizes the parties to establish a reefer trade management program whereby participating members will have certain program shares designated for one-year periods and will pay for overcarriage or receive payments for undercarriage of containerized refrigerated cargoes.

Agreement No.: 011737-004.

Title: The MCA Agreement.

Parties: Allianca Navegacao E. Logistica Ltda., Antillean Marine Shipping Corporation CMA CGM S.A., Compania Chilena De Navegacion Interoceanica S.A., Companhia Libra de Navegacao, Compania Sud Americana de Vapores S.A., CP Ships (UK) Limited d.b.a. ANZDL and d.b.a. Contship Containerlines, Crowley Liner Services, Inc., Dole Ocean Cargo Express, Far Eastern Shipping Company, Hamburg Sud d.b.a. Columbus Line and d.b.a. Crowley, American Transport, Hapag-Lloyd Container Linie, King Ocean Central America S.A., King Ocean Service De Colombia S.A., King Ocean Service De Venezuela S.A., Lykes Lines Limited, LLC, Montemar Maritima S.A., Norasia Container Line Limited, Tecmarine Lines, Inc., TMM Lines Limited LLC, Tropical Shipping & Construction Co., Ltd., Wallenius Wilhelmsen Lines AS.

Synopsis: The proposed amendment adds Companhia Libra de Navegacao, Compania Sud Americana de Vapores S.A., CP Ships (UK) Limited d.b.a. ANZDL and d.b.a. Contship Containerlines, Dole Ocean Cargo Express, Inc., Hapag-Lloyd Container Linie, Montemar Maritima S.A., Norasia Container Line Limited, and Wallenius Wilhelmsen Lines AS as parties to the agreement. The amendment also corrects the name of Mexican Line Limited to TMM Lines Limited, LLC and changes the name of the administrators of the agreement from Maritime Credit Alliance, Inc. to Maritime Credit Alliance, LLC.

Agreement No.: 011789.

Title: Contship/Zim Indian Subcontinent Space Charter Agreement.

Parties: Contship Containerlines, a division of CP Ships (UK) Limited, Zim Israel Navigation Company Ltd.

Synopsis: The proposed agreement authorizes Zim to charter space from Contship on vessels operated under F.C. Agreement No. 011692 from the U.S. East Coast to ports in the Indian Subcontinent.

Agreement No.: 201114-001.

Title: Oakland Evergreen Terminal Use Agreement.

Parties: City of Oakland: Board of Port Commissioners Evergreen Marine Corp. (Taiwan) Ltd., Lloyd Triestino di Navigazione S.p.A.

Synopsis: The amendment adds an additional party. The agreement continues to run through July 31, 2005.

Agreement No.: 201128.

Title: Florida Ports Conference II.

Parties: Canaveral Port Authority, Broward County, Port Everglades Department, Jacksonville Port Authority, Port of Key West, Manatee County Port Authority, Miami-Dade County, Port of Miami, Ocean Highway and Port Authority, Nassau County, Port of Palm Beach District, Panama City Port Authority, City of Pensacola, Port of Pensacola, Tampa Port Authority.

Synopsis: The proposed agreement will establish a voluntary discussion and cooperative working agreement authorizing the parties to confer, discuss, and agree on rates, charges, practices regulations, definitions, administration, and matters of interest to the ports. It will supercede the present Florida Ports Conference, F.C. Agreement No. 200887.

Agreement No.: 201129.

Title: Port Manatee Warehouse Lease Agreement.

Parties: Manatee County Port Authority, WSI of The Southeast, L.L.C.

Synopsis: The agreement is a lease for a warehouse and is effective through December 31, 2003.

Dated: February 8, 2002.
By Order of the Federal Maritime Commission.
Bryant L. VanBrakle,
Secretary.

[FR Doc. 02-3523 Filed 2-12-02; 8:45 am]

BILLING CODE 6730-01-P